COMMITTEE FOR PURCHASE FROM PEOPLE WHO ARE BLIND OR SEVERELY DISABLED

Correction of Notice of Addition

AGENCY: Committee for Purchase From People Who Are Blind or Severely Disabled.

ACTION: Correction to notice of addition to the Procurement List.

SUMMARY: In the document appearing on page 75497-75498, FR Doc E6-21360, Procurement List Additions and Deletions, in the issue of December 15, 2006, in the first column of page 75498, the Committee published addition of Gloves, Flyer's Summer, Type GS/FRP-2; GS/FPP-2. Following the publication of this Notice, the Committee determined that specific coverage of this addition was not included in the notice. The Committee therefore is publishing the Product again with the corrected coverage. All other information remains the same.

DATES: Effective Date: January 21, 2007.

ADDRESSES: Committee for Purchase From People Who Are Blind or Severely Disabled, Jefferson Plaza 2, Suite 10800, 1421 Jefferson Davis Highway, Arlington, Virginia, 22202-3259.

FOR FURTHER INFORMATION CONTACT: Sheryl D. Kennerly, Telephone: (703) 603-7740, Fax: (703) 603-0655, or email SKennerly@jwod.gov.

Addition

Coverage: The requirement being added to the Procurement List is limited to 15,200 pairs of any combination of the following NSNs for Defense Supply Center Philadelphia, PA.

Gloves, Flyers', Summer, Type GS/FRP-2; GS/FPP-2

NSN: 8415-01-029-0109—Gloves, Flyers' Summer Type GS-FRP-2, Sage Green (Size 7)

NSN: 8415-01-029-0111—Gloves, Flyers' Summer Type GS-FRP-2, Sage Green (Size 8)

NSN: 8415-01-029-0112—Gloves, Flyers' Summer Type GS-FRP-2, Sage Green (Size 9)

NSN: 8415-01-029-0113—Gloves, Flyers' Summer Type GS-FRP-2, Sage Green (Size 10)

NSN: 8415-01-029-0116—Gloves, Flyers' Summer Type GS-FRP-2, Sage Green (Size 11)

NSN: 8415-01-040-1453—Gloves, Flyers' Summer Type GS-FRP-2, Sage Green (Size 6)

NSN: 8415-01-040-2012—Gloves, Flyers' Summer Type GS-FRP-2, Sage Green (Size 5)

NSN: 8415-01-461-4920—Gloves, Flyers' Summer Type GS-FPP-2, Desert Tan (Size 5)

NSN: 8415-01-461-4922—Gloves, Flyers' Summer Type GS-FPP-2, Desert Tan (Size 6)

NSN: 8415-01-461-4924—Gloves, Flyers' Summer Type GS-FPP-2, Desert Tan (Size 7)

NSN: 8415-01-461-4932—Gloves, Flyers' Summer Type GS-FPP-2, Desert Tan (Size 8)

NSN: 8415-01-461-4934—Gloves, Flyers' Summer Type GS-FPP-2, Desert Tan (Size 9)

NSN: 8415-01-461-4940—Gloves, Flyers' Summer Type GS-FPP-2, Desert Tan (Size 10)

NSN: 8415-01-461-4942—Gloves, Flyers' Summer Type GS-FPP-2, Desert Tan (Size 11)

NSN: 8415-01-461-4962—Gloves, Flyers' Summer Type GS-FRP-2, Black (Size 5)

NSN: 8415-01-461-4964—Gloves, Flyers' Summer Type GS-FRP-2, Black (Size 6)

NSN: 8415-01-461-4966—Gloves, Flyers' Summer Type GS-FRP-2, Black (Size 7)

NSN: 8415-01-461-4969—Gloves, Flyers' Summer Type GS-FRP-2, Black (Size 8)

NSN: 8415-01-461-4970—Gloves, Flyers' Summer Type GS-FRP-2, Black (Size 9)

NSN: 8415-01-461-4971—Gloves, Flyers' Summer Type GS-FRP-2, Black (Size 10)

NSN: 8415-01-461-4981—Gloves, Flyers' Summer Type GS-FRP-2, Black (Size 11)

NSN: 8415-01-482-8417—Gloves, Flyers' Summer Type GS-FRP-2, Sage Green (Size 4)

NSN: 8415-01-482-8420—Gloves, Flyers' Summer Type GS-FRP-2, Sage Green (Size 12)

NSN: 8415-01-482-8678—Gloves, Flyers' Summer Type GS-FRP-2, Black (Size 4)

NSN: 8415-01-482-8684—Gloves, Flyers' Summer Type GS-FRP-2, Black (Size 12)

NSN: 8415-01-482-8688—Gloves, Flyers' Summer Type GS-FPP-2, Desert Tan (Size 4)

NSN: 8415-01-482-8690—Gloves, Flyers' Summer Type GS-FPP-2, Desert Tan (Size 12)

NPA: South Texas Lighthouse for the Blind, Corpus Christi, TX

Contracting Activity: Defense Supply Center Philadelphia, Philadelphia, PA

Sheryl D. Kennerly,
Director, Information Management.

[FR Doc. E6-21977 Filed 12-21-06; 8:45 am]

BILLING CODE 6353-01-P